DEPARTMENT OF COMMERCE

International Trade Administration

[A-570-943, C-570-944]

Oil Country Tubular Goods From the People's Republic of China: Initiation and Preliminary Results of Antidumping and Countervailing Duty Changed Circumstances Reviews

AGENCY: Enforcement and Compliance, International Trade Administration, Department of Commerce.

SUMMARY: The Department of Commerce (Commerce) is simultaneously initiating and issuing the preliminary results of the changed circumstances reviews of the antidumping and countervailing duty orders on oil country tubular goods (OCTG) from the People's Republic of China (China) to determine whether HLDS (B) Steel Sdn Bhd (HLDS (B)) and HLD Clark Steel Pipe Co., Inc. (HLD Clark) (collectively, HLD companies) are eligible to participate in a certification process because the HLD companies have preliminarily demonstrated that they can identify OCTG that they produced in either Brunei or the Philippines using non-Chinese hot-rolled steel. We invite interested parties to comment on these preliminary results.

DATES: Applicable February 14, 2022.

FOR FURTHER INFORMATION CONTACT: Yang Jin Chun, AD/CVD Operations, Office VI, Enforcement and Compliance, International Trade Administration, U.S. Department of Commerce, 1401 Constitution Avenue NW, Washington, DC 20230; telephone: (202) 482-5760.

SUPPLEMENTARY INFORMATION:

Background

On November 26, 2021, Commerce found that imports of welded OCTG completed in Brunei or the Philippines using inputs manufactured in China are circumventing the antidumping and countervailing duty orders on OCTG from China.¹ In the Final Determinations, Commerce found that welded OCTG “assembled or completed in Brunei or the Philippines using non-Chinese inputs is not subject to these circumvention inquiries,” but because the HLD companies were “unable to track welded OCTG to the country of origin of inputs used in the production of welded OCTG,” Commerce decided not to “implement a certification process for welded OCTG already suspended,” and required “cash deposits on all entries of welded OCTG produced in either Brunei or the Philippines.” ² However, Commerce indicated that “producers and/or exporters in Brunei or the Philippines may request reconsideration of our denial of the certification process in a future segment of the proceeding, i.e., a changed circumstances review or administrative review.” ³

¹ See Oil Country Tubular Goods from the People's Republic of China: Final Affirmative Determinations of Circumvention, 86 FR 67443 (November 26, 2021) (Final Determinations); see also Certain Oil Country Tubular Goods from the People's Republic of China: Amended Final Determination of Sales at Less Than Fair Value and Antidumping Duty Order, 75 FR 28551 (May 21, 2010); and Certain Oil Country Tubular Goods from the People's Republic of China: Amended Final Affirmative Countervailing Duty Determination and Countervailing Duty Order, 75 FR 3203 (January 20, 2010).

² See Final Determinations, 86 FR 67444.

³ Id.

On December 23, 2021, the HLD companies submitted changed circumstances review requests, in which they claim that they are able to identify and segregate welded OCTG made using non-Chinese hot-rolled steel by either HLDS (B) in Brunei or HLD Clark in the Philippines and then subsequently exported from either Brunei or the Philippines to the United States.⁴ The HLD companies request that Commerce find them eligible for certification of these welded OCTG as non-subject merchandise. In response to Commerce's requests for additional information, the HLD companies submitted their supplemental responses on January 18, 2022,⁵ and January 24, 2022.⁶

⁴ See HLD Companies' Letters, “Request for Changed Circumstances Review,” dated December 23, 2021 (CCR Request), and “First Supplemental Questionnaire Response” dated January 18, 2022 (First Supplemental Response).

⁵ See First Supplemental Response.

⁶ See HLD Companies' Letter, “Second Supplemental Questionnaire Response,” dated January 24, 2022 (Second Supplemental Response).

Scope of the Orders

The scope of these orders consists of certain OCTG, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the orders also covers OCTG coupling stock. Excluded from the scope of the orders are casing or tubing containing 10.5 percent or more by weight of chromium; drill pipe; unattached couplings; and unattached thread protectors.

The merchandise covered by the orders is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the orders may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80.

The HTSUS subheadings are provided for convenience and customs purposes only; the written description of the scope of the orders is dispositive.

Initiation of Changed Circumstances Reviews

Pursuant to section 751(b)(1) of the Tariff Act of 1930, as amended (the Act), and 19 CFR 351.216(d), Commerce will conduct a changed circumstances review upon receipt of a request from an interested party or receipt of information concerning an antidumping and/or countervailing duty order which shows changed circumstances sufficient to warrant a review of the order. In accordance with 19 CFR 351.216(d), Commerce finds that the HLD companies provided sufficient information to initiate the changed circumstances reviews. Therefore, we are initiating the changed circumstances reviews pursuant to sections 751(b)(1) of the Act and 19 CFR 351.216(d) to determine whether the HLD companies are: (1) Able to identify welded OCTG produced by either HLDS (B) in Brunei or HLD Clark in the Philippines using non-Chinese hot-rolled steel and exported from either Brunei or the Philippines to the United States; and (2) eligible for the certification process.

Preliminary Results of Changed Circumstances Reviews

Commerce is conducting these changed circumstances reviews in accordance with sections 751(b)(1) of the Act. We preliminarily determine that, since the publication of the Final Determinations, the HLD companies have demonstrated in their changed circumstances review requests that they are able to identify and segregate welded OCTG produced by either HLDS (B) in Brunei or HLD Clark in the Philippines using non-Chinese hot-rolled steel and exported from either Brunei or the Philippines to the United States.

The HLD companies claim that, right after the Preliminary Determinations, they implemented “changes for separating hot-rolled steel of Chinese-origin from hot-rolled steel of non-Chinese-origin, and finished pipes produced using hot-rolled steel from Chinese-origin and non-Chinese-origin, both physically and in the HLD Companies' accounting records.” ⁷ To support these claims, the HDL companies provided company resolutions detailing the implementations of these changes.⁸

⁷ See CCR Request at 4; see also Oil Country Tubular Goods from the People's Republic of China: Preliminary Affirmative Determinations of Circumvention, 86 FR 43627, 43629 (August 10, 2021) (signed on August 4, 2021) (Preliminary Determinations).

⁸ See CCR Request at Exhibit 2.

The HLD companies claim that they now store: (1) Chinese hot-rolled steel and non-Chinese hot-rolled steel separately in separate storage zones in their production facilities; and (2) welded OCTG produced using Chinese hot-rolled steel and welded OCTG produced using non-Chinese hot-rolled steel in separate storage zones in their production facilities.⁹ To support these assertions, the HLD companies provided photos of these storage zones and the blueprints of the production facilities with identification of specific storage zones.¹⁰

⁹ Id. at 4.

¹⁰ Id. at 4 and Exhibits 3 and 4 for HLD Clark and HLDS (B), respectively.

The HLD companies explain that it has been their business practice to mark OCTG with the heat number of the steel mill that produced the hot-rolled steel, in accordance with the OCTG industry's traceability requirements. The HLD companies claim that, in addition to the heat number, they began to mark OCTG with the bill of lading number of their imported hot-rolled steel to enhance the traceability of the country of origin of each hot-rolled steel.¹¹ To support these claims, the HLD companies provided photos of finished OCTG with these markings.¹²

¹¹ Id. at 4-5.

¹² Id. at Exhibit 5; see also First Supplemental Response at 2 and Exhibit SQ1-3. Because HLDS (B) has not recently made any sales of OCTG, it alternatively provided a photo of non-OCTG pipes to support its assertion. See First Supplemental Response at 2; and Second Supplemental Response at 1 and Exhibit SQ2-2.

The HLD companies claim that they maintain separate production records that track finished OCTG produced using Chinese hot-rolled steel and finished OCTG produced using non-Chinese hot-rolled steel.¹³ The HLD companies claim that they each record: “(i) the Chinese and non-Chinese hot-rolled steel under separate raw material accounts; (ii) finished pipes produced using Chinese and non-Chinese hot-rolled steel under separate finished goods accounts; and (iii) sales of pipes from Chinese and non-Chinese hot-rolled steel under separate export sales accounts.” ¹⁴ To support these claims, the HLD companies provided mill certificate traces and accounting records screenshots.¹⁵

¹³ See CCR Request at 5 and Exhibits 6 and 7.

¹⁴ Id. at 5 and Exhibits 8 and 9; see also First Supplemental Response at 1-3 and Exhibits SQ1-4—SQ1-10.

¹⁵ See CCR Request at 5-7 and Exhibit 10; see also First Supplemental Response at 1-3 and Exhibits SQ1-2, SQ1-4—SQ1-10; and Second Supplemental Response at 1 and Exhibits SQ2-1 and SQ2-3.

We have examined the information provided by the HLD companies, and we preliminarily find that the HLD companies are now able to identify and effectively segregate welded OCTG produced by either HLDS (B) in Brunei or HLD Clark in the Philippines using non-Chinese hot-rolled steel from other OCTG produced at their facilities.

If these preliminary results are adopted in our final results of these changed circumstances reviews, effective on the publication date of our final results, the HLD companies and their importers will be eligible, where appropriate, to certify that welded OCTG produced by either HLDS (B) in Brunei or HLD Clark in the Philippines and exported from either Brunei or the Philippines were produced using non-Chinese hot-rolled steel. OCTG entering the United States with such certification will not be subject to suspension of liquidation and a requirement to post cash deposits of estimated antidumping and countervailing duties. The draft certification language is attached as an appendix to this notice. Interested parties are invited to comment on the draft certification language in their case briefs.

Suspension of Liquidation and Certification Requirements

In accordance with 19 CFR 351.225(l)(3), if the final results of these reviews remain unchanged from the preliminary results, the suspension of liquidation instructions will remain in effect until further notice. Commerce will direct CBP to suspend liquidation and to require a cash deposit of estimated duties on unliquidated entries of welded OCTGs produced (i.e., assembled or completed) by either HLDS (B) in Brunei or HLD Clark in the Philippines using Chinese hot-rolled steel and exported from either Brunei or the Philippines that were entered, or withdrawn from warehouse, for consumption on or after the date of initiation of the changed circumstances reviews.

Welded OCTG produced by either HLDS (B) in Brunei or HLD Clark in the Philippines using non-Chinese hot-rolled steel and exported from either Brunei or the Philippines are not subject to the antidumping and countervailing duty orders on OCTG from China. However, imports of such merchandise are subject to certification requirements, and cash deposits may be required if the certification requirements are not satisfied. Accordingly, if an importer enters welded OCTG produced by either HLDS (B) in Brunei or HLD Clark in the Philippines and exported from either Brunei or the Philippines and claims that the welded OCTG was produced from non-Chinese hot-rolled steel, in order not to be subject to cash deposit requirements, the importer and exporter are required to meet the certification and documentation requirements described herein and in the certifications contained in the appendix. Where no certification is provided for an entry of welded OCTG produced by either HLDS (B) in Brunei or HLD Clark in the Philippines and exported from either Brunei or the Philippines to the United States, the antidumping and countervailing duty orders on OCTG from China apply to that entry and Commerce intends to instruct CBP to suspend the entry and collect cash deposits of estimated antidumping duties equal to the rate established for the China-wide entity, i.e., 99.14 percent,¹⁶ and cash deposits of estimated countervailing duties equal to the current all-others rate, i.e., 27.08 percent.¹⁷

¹⁶ See Oil Country Tubular Goods from the People's Republic of China: Final Results of Antidumping Duty Administrative Review; 2017-2018, 84 FR 32125, 32126 (July 5, 2019).

¹⁷ See Oil Country Tubular Goods from the People's Republic of China: Notice of Court Decision Not in Harmony With the Amended Final Determination of the Countervailing Duty Investigation, 82 FR 25770 (June 5, 2017).

For shipments and/or entry summaries made on or after the date of publication of the initiation of the changed circumstances reviews through 30 days after the date of publication of the final results of these changed circumstances reviews for which certifications are required, importers and exporters should complete the required certification within 30 days after the publication of the final results of these changed circumstances reviews in the Federal Register. Accordingly, where appropriate, the relevant item in the certification should be modified to reflect that the certification was completed within the time frame specified above. For such entries/shipments, importers and exporters each have the option to complete a blanket certification covering multiple entries/shipments, individual certifications for each entry/shipment, or a combination thereof. For shipments and/or entries made on or after 31 days after the date of publication of the final results of these changed circumstances reviews in the Federal Register, for which certifications are required, importers should complete the required certification at or prior to the date of entry summary, and exporters should complete the required certification and provide it to the importer at or prior to the date of shipment.

Public Comment

Interested parties may submit case briefs no later than 14 days after the publication of this notice.¹⁸ Rebuttal briefs, which must be limited to issues raised in case briefs, may be filed not later than seven days after the deadline for filing case briefs.¹⁹ Commerce has modified certain of its requirements for serving documents containing business proprietary information until further notice.²⁰ Parties who submit case briefs or rebuttal briefs in these changed circumstances reviews are requested to submit with each argument: (1) A statement of the issue; (2) a brief summary of the argument; and (3) a table of authorities. Interested parties that wish to request a hearing must submit a written request to the Assistant Secretary for Enforcement and Compliance, filed electronically via ACCESS, within 14 days of publication of this notice.²¹ The hearing request should contain: (1) The party's name, address, and telephone number; (2) the number of participants; and (3) a list of the issues to be discussed. Oral presentations at the hearing will be limited to issues raised in the briefs. If a request for a hearing is made, Commerce intends to hold the hearing at a date and time to be determined. Parties should confirm by telephone the date and time of the hearing two days before the scheduled date.

¹⁸ See 19 CFR 351.309(c)(1)(ii). (“Any interested party . . . may submit a ‘case brief’ within . . . 30 days after the date of publication of the preliminary results of {a changed circumstances} review, unless the Secretary alters the time limit . . . ”) (Emphasis added).

¹⁹ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”)

²⁰ See Temporary Rule Modifying AD/CVD Service Requirements Due to COVID-19; Extension of Effective Period, 85 FR 41363 (July 10, 2020).

²¹ See 19 CFR 351.310(c) (“Any interested party may request that the Secretary hold a public hearing on arguments to be raised in case or rebuttal briefs within 30 days after the date of publication of the . . . preliminary results of review, unless the Secretary alters this time limit . . .”) (Emphasis added); see also 19 CFR 351.303 for general filing requirements.

All submissions, with limited exceptions, must be filed electronically using Enforcement and Compliance's Antidumping and Countervailing Duty Centralized Electronic Service System (ACCESS). ACCESS is available to registered users at http://access.trade.gov. An electronically filed document must be received successfully in its entirety by no later than 5:00 p.m. Eastern Time on the date the document is due.

Notifications to Interested Parties

Consistent with 19 CFR 351.216(e), we intend to issue the final results of these changed circumstances reviews no later than 270 days after the date on which these reviews were initiated, or within 45 days after the publication of the initiation and preliminary results if all parties in these changed circumstances reviews agree to our preliminary results. The final results will include Commerce's analysis of issues raised in any written comments.

We are issuing and publishing this notice of initiation and preliminary results in accordance with sections 751(b)(1) and 777(i) of the Act, 19 CFR 351.216, and 19 CFR 351.221(c)(3)(i).

Dated: February 7, 2022.
Lisa W. Wang,
Assistant Secretary for Enforcement and Compliance.

Appendix

Exporter Certification

Special Instructions: The party that made the sale to the United States should fill out the exporter certification. Only parties that exported welded OCTG produced by either HLDS (B) Steel Sdn. Bhd. in Brunei or HLD Clark Steel Pipe Co., Inc. in the Philippines are eligible for this certification process.

I hereby certify that:

A. My name is {COMPANY OFFICIAL'S NAME} and I am an official of {NAME OF EXPORTING COMPANY}, located at {ADDRESS};

B. I have direct personal knowledge of the facts regarding the production and exportation of the welded oil country tubular goods (OCTG) identified below. “Direct personal knowledge” refers to facts the certifying party is expected to have in its own books and records. For example, an exporter should have direct personal knowledge of the producer's identity and location.

C. Welded OCTG produced in either Brunei or the Philippines and covered by this certification were not manufactured using hot-rolled steel produced in the People's Republic of China (China).

D. This certification applies to the following sales to {NAME OF U.S. CUSTOMER}, located at {ADDRESS OF U.S. CUSTOMER}. (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

E. The welded OCTG covered by this certification were shipped to {NAME OF U.S. PARTY TO WHOM MERCHANDISE WAS SHIPPED}, located at {U.S. ADDRESS TO WHICH MERCHANDISE WAS SHIPPED}.

F. I understand that {NAME OF EXPORTING COMPANY} is required to maintain a copy of this certification and sufficient documentation supporting this certification (i.e., documents maintained in the normal course of business, or documents obtained by the certifying party, for example, mill certificates, production records, invoices, etc.) for the later of (1) a period of five years from the date of entry or (2) a period of three years after the conclusion of any litigation in the United States courts regarding such entries.

G. I understand that {NAME OF EXPORTING COMPANY} must provide a copy of this Exporter Certification to the U.S. importer by the date of shipment.

H. I understand that {NAME OF EXPORTING COMPANY} is required to provide a copy of this certification and supporting records, upon request, to U.S. Customs and Border Protection (CBP) and/or the Department of Commerce (Commerce).

I. I understand that the claims made herein, and the substantiating documentation are subject to verification by CBP and/or Commerce.

J. I understand that failure to maintain the required certification and/or failure to substantiate the claims made herein, and/or failure to allow CBP and/or Commerce to verify the claims made herein, may result in a de facto determination that all sales to which this certification applies are within the scope of the antidumping and countervailing duty orders on welded OCTG from China. I understand that such finding will result in:

1. Suspension of all unliquidated entries (and entries for which liquidation has not become final) for which these requirements were not met; and

2. the requirement that the importer post applicable antidumping and countervailing duty cash deposits (as appropriate) equal to the rates as determined by Commerce; and

3. the revocation of {NAME OF EXPORTING COMPANY}'s privilege to certify future exports of welded OCTG from either Brunei or the Philippines as not manufactured using hot-rolled steel from China.

K. This certification was completed at or prior to the date of shipment;

L. I am aware that U.S. law (including, but not limited to, 18 U.S.C. 1001) imposes criminal sanctions on individuals who knowingly and willfully make material false statements to the U.S. government.

Signature

NAME OF COMPANY OFFICIAL

TITLE

DATE

Importer Certification

I hereby certify that:

A. My name is {IMPORTING COMPANY OFFICIAL'S NAME} and I am an official of {NAME OF IMPORTING COMPANY}, located at {ADRESS OF IMPORTING COMPANY}.

B. I have direct personal knowledge of the facts regarding the importation into the Customs territory of the United States of welded oil country tubular goods (OCTG) produced in either Brunei or the Philippines that entered under entry summary number(s) identified below and are covered by this certification. “Direct personal knowledge” refers to facts the certifying party is expected to have in its own records. For example, the importer should have direct personal knowledge of the importation of the product (e.g., the name of the exporter) in its records.

C. If the importer is acting on behalf of the first U.S. customer, complete this paragraph, if not put “NA” at the end of this paragraph: Welded OCTG covered by this certification were imported by {NAME OF IMPORTING COMPANY} on behalf of {NAME OF U.S. CUSTOMER}, located at {ADDRESS OF U.S. CUSTOMER}.

D. Welded OCTG covered by this certification were shipped to {NAME OF PARTY TO WHOM MERCHANDISE WAS FIRST SHIPPED IN THE UNITED STATES}, located at {ADDRESS OF SHIPMENT}.

E. I have personal knowledge of the facts regarding the production of the welded OCTG identified below. “Personal knowledge” includes facts obtained from another party, (e.g., correspondence received by the importer (or exporter) from the producer regarding the country of manufacture of the imported products).

F. Welded OCTG covered by this certification were not manufactured using hot-rolled steel produced in the People's Republic of China (China).

G. This certification applies to the following entries (repeat this block as many times as necessary):

Entry Summary #:

Entry Summary Line Item #: Foreign Seller:

Foreign Seller's Address: Foreign Seller's Invoice #:

Foreign Seller's Invoice Line Item #:

Producer:

Producer's Address:

H. I understand that {NAME OF IMPORTING COMPANY} is required to maintain a copy of this certification and sufficient documentation supporting this certification (i.e., documents maintained in the normal course of business, or documents obtained by the certifying party, for example, mill certificates, production records, invoices, etc.) for the later of (1) a period of five years from the date of entry, or (2) a period of three years after the conclusion of any litigation in the United States courts regarding such entries.

I. I understand that {NAME OF IMPORTING COMPANY} is required to provide this certification and supporting records to U.S. Customs and Border Protection (CBP) and/or the Department of Commerce (Commerce), upon request by the respective agency.

J. I understand that {NAME OF IMPORTING COMPANY} is required to maintain a copy of the exporter's certification (attesting to the production and/or export of the imported merchandise identified above), and any supporting records provided by the exporter to the importer, for the later of (1) a period of five years from the date of entry or (2) a period of three years after the conclusion of any litigation in United States courts regarding such entries.

K. I understand that {NAME OF IMPORTING COMPANY} is required, upon request, to provide a copy of the exporter's certification and any supporting records provided by the exporter to the importer, to CBP and/or Commerce.

L. I understand that the claims made herein, and the substantiating documentation, are subject to verification by CBP and/or Commerce.

M. I understand that failure to maintain the required certifications, and/or failure to substantiate the claims made herein, and/or failure to allow CBP and/or Commerce to verify the claims made herein, may result in a de facto determination that all entries to which this certification applies are within the scope of the antidumping and countervailing duty orders on welded OCTG from China. I understand that such finding will result in:

1. Suspension of liquidation of all unliquidated entries (and entries for which liquidation has not become final) for which these requirements were not met;

2. the requirement that the importer post applicable antidumping and countervailing duty cash deposits (as appropriate) equal to the rates determined by Commerce; and

3. the revocation of {NAME OF IMPORTING COMPANY}'s privilege to certify future imports of welded OCTG from either Brunei or the Philippines as not manufactured using hot-rolled steel from China.

N. I understand that agents of the importer, such as brokers, are not permitted to make this certification. Where a broker or other party was used to facilitate the entry process, {NAME OF IMPORTING COMPANY} obtained the entry summary number and date of entry summary from that party.

O. This certification was completed at or prior to the date of entry summary.

P. I am aware that U.S. law (including, but not limited to, 18 U.S.C. 1001) imposes criminal sanctions on individuals who knowingly and willfully make material false statements to the U.S. government.

Signature

NAME OF COMPANY OFFICIAL

TITLE

DATE

[FR Doc. 2022-03048 Filed 2-11-22; 8:45 am]

BILLING CODE 3510-DS-P